DEPARTMENT OF COMMERCE

National Oceanic and Atmospheric Administration

RIN 0648-XY04

General Advisory Committee to the U.S. Section to the Inter-American Tropical Tuna Commission; Meeting Announcement

AGENCY: National Marine Fisheries Service (NMFS), National Oceanic and Atmospheric Administration (NOAA), Commerce.

ACTION: Notice of public meeting.

SUMMARY: NMFS announces a meeting of the General Advisory Committee and the Scientific Advisory Subcommittee to the U.S. Section to the Inter-American Tropical Tuna Commission (IATTC) on September 17, 2010. Meeting topics are provided under the SUPPLEMENTARY INFORMATION section of this notice.

DATES: The meeting will be held on September 17, 2010, from 9 a.m. to 5 p.m. PDT (or until business is concluded).

ADDRESSES: The meeting will be held in the Large Conference Room (Room 370) at NMFS, Southwest Fisheries Science Center, 3333 North Torrey Pines Court, La Jolla, California, 92037-1023. Please notify Heidi Hermsmeyer prior to September 10, 2010, of your plans to attend the meeting, or interest in a teleconference option.

FOR FURTHER INFORMATION CONTACT: Heidi Hermsmeyer, Southwest Region, NMFS at Heidi.Hermsmeyer@noaa.gov, or at (562) 980-4036.

SUPPLEMENTARY INFORMATION: In accordance with the Tuna Conventions Act, as amended, the Department of State has appointed a General Advisory Committee (GAC) and a Scientific Advisory Subcommittee (SAS) to the U.S. Section to the IATTC. The U.S. Section consists of four U.S. Commissioners to the IATTC and a representative of the Deputy Assistant Secretary of State for Oceans and Fisheries. The advisory bodies support the work of the U.S. Section in an advisory capacity with respect to U.S. participation in the work of the IATTC, with particular reference to the development of policies and negotiating positions pursued at meetings of the IATTC. NMFS, Southwest Region, administers the GAC and SAS in cooperation with the Department of State.

Meeting Topics

The meeting topics will include, but are not limited to, the following: (1) updates from the IATTC scientific staff on issues such as the status of tropical tuna stocks and conservation recommendations; (2) updates on other international agreements in the Pacific Ocean such as the Western and Central Pacific Fisheries Commission; (3) regulatory changes that could affect tuna fisheries in the eastern Pacific Ocean; (4) the status of Antigua Convention implementing legislation; (5) input and advice from the advisory bodies on issues that may arise at the upcoming AIDCP/IATTC meetings in September 2010, including, but not limited to, potential U.S. proposals, potential proposals from other IATTC members, the potential for an albacore working group, and potential revisions to IATTC Resolution C-09-01; (6) relevant changes in personnel and responsibilities at NOAA and the U.S. Department of State; and (7) other issues as they arise.

Special Accommodations

The meeting location is physically accessible to people with disabilities. Requests for sign language interpretation or other auxiliary aids should be directed to Heidi Hermsmeyer at (562) 980-4036 by September 10, 2010.

Authority: 16 U.S.C. 1801 et seq.

Dated: August 6, 2010.
Carrie Selberg,
Acting Director, Office of Sustainable Fisheries, National Marine Fisheries Service.

[FR Doc. 2010-19954 Filed 8-11-10; 8:45 am]

BILLING CODE 3510-22-S